DEPARTMENT OF ENERGY

Federal Energy Regulatory Commission

[Project No. 1930-090]

Southern California Edison Company; Notice of Intent To File License Application, Filing of Pre-Application Document (Pad), Commencement of Pre-Filing Process, and Scoping; Request for Comments on the Pad and Scoping Document, and Identification of Issues and Associated Study Requests

a. Type of Filing: Notice of Intent to File License Application for a New License and Commencing Pre-filing Process.

b. Project No.: 1930-090.

c. Dated Filed: May 5, 2023.

d. Submitted By: Southern California Edison Company (SCE).

e. Name of Project: Kern River No. 1 Hydroelectric Project (Kern 1 Project).

f. Location: The Kern 1 Project is located on the lower Kern River on the western slope of the Sierra Nevada, approximately 15 miles east of the City of Bakersfield in Kern County, California. The existing FERC project boundary occupies federal lands within the Sequoia National Forest which is under the jurisdiction of the U.S. Forest Service.

g. Filed Pursuant to: 18 CFR part 5 of the Commission's Regulations.

h. Applicant Contact: David Moore, Kern River No. 1 Relicensing Project Manager, Southern California Edison Company, 1515 Walnut Grove Avenue, Rosemead, CA 91770; (626) 302-9741; david.moore@sce.com.

i. FERC Contact: Jessica Fefer at (202) 502-6631 or email at jessica.fefer@ferc.gov.

j. Cooperating Agencies: Federal, state, local, and tribal agencies with jurisdiction and/or special expertise with respect to environmental issues that wish to cooperate in the preparation of the environmental document should follow the instructions for filing such requests described in item o below. Cooperating agencies should note the Commission's policy that agencies that cooperate in the preparation of the environmental document cannot also intervene. See 94 FERC ¶ 61,076 (2001).

k. With this notice, we are initiating informal consultation with: (a) the U.S. Fish and Wildlife Service and/or the National Oceanic and Atmospheric Administration Fisheries under section 7 of the Endangered Species Act and the joint agency regulations thereunder at 50 CFR part 402 and (b) the State Historic Preservation Office, as required by section 106, National Historic Preservation Act, and the implementing regulations of the Advisory Council on Historic Preservation at 36 CFR 800.2.

l. With this notice, we are designating SCE as the Commission's non-federal representative for carrying out informal consultation, pursuant to section 7 of the Endangered Species Act and section 106 of the National Historic Preservation Act.

m. SCE filed with the Commission a Pre-Application Document (PAD), including a proposed process plan and schedule, pursuant to 18 CFR 5.6 of the Commission's regulations.

n. A copy of the PAD may be viewed on the Commission's website (http://www.ferc.gov) using the “eLibrary” link. Enter the docket number, excluding the last three digits in the docket number field, to access the document. For assistance, contact FERC at FERCOnlineSupport@ferc.gov or call toll-free, (866) 208-3676 or TYY, (202) 502-8659.

You may register online at https://ferconline.ferc.gov/FERCOnline.aspx to be notified via email of new filings and issuances related to these or other pending projects. For assistance, contact FERC Online Support.

o. With this notice, we are soliciting comments on the PAD and Commission staff's Scoping Document 1 (SD1), as well as study requests. All comments on the PAD and SD1, and study requests should be sent to the address above in paragraph h. In addition, all comments on the PAD and SD1, study requests, requests for cooperating agency status, and all communications to and from staff related to the merits of the potential application must be filed with the Commission.

The Commission strongly encourages electronic filing. Please file all documents using the Commission's eFiling system at https://ferconline.ferc.gov/FERCOnline.aspx. Commenters can submit brief comments up to 6,000 characters, without prior registration, using the eComment system at https://ferconline.gov/QuickComment.aspx. You must include your name and contact information at the end of your comments. For assistance, please contact FERC Support at FERCOnlineSupport@ferc.gov. In lieu of electronic filing, you may submit a paper copy. Submissions sent via the U.S. Postal Service must be addressed to: Kimberly D. Bose, Secretary, Federal Energy Regulatory Commission, 888 First Street NE, Room 1A, Washington, DC 20426. Submissions sent via any other carrier must be addressed to: Kimberly D. Bose, Secretary, Federal Energy Regulatory Commission, 12225 Wilkins Avenue, Rockville, Maryland 20852. The first page of any filing should include docket number P-1930-090.

All filings with the Commission must bear the appropriate heading: “Comments on Pre-Application Document,” “Study Requests,” “Comments on Scoping Document 1,” “Request for Cooperating Agency Status,” or “Communications to and from Commission Staff.” Any individual or entity interested in submitting study requests, commenting on the PAD or SD1, and any agency requesting cooperating status must do so by September 5, 2023 .¹

¹ The Commission's Rules of Practice and Procedure provide that if a filing deadline falls on a Saturday, Sunday, holiday, or other day when the Commission is closed for business, the filing deadline does not end until the close of business on the next business day. 18 CFR 385.2007(a)(2) (2022). Because the filing deadline falls on a Saturday (i.e., September 2, 2023), the filing deadline is extended until the close of business on Tuesday, September 5, 2023.

p. The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202)502-6595 or OPP@ferc.gov.

q. The Commission's scoping process will help determine the required level of analysis and satisfy the National Environmental Policy Act (NEPA) scoping requirements, irrespective of whether the Commission prepares an environmental assessment or environmental impact statement.

Scoping Meetings

Commission staff will hold two scoping meetings for the project to receive input on the scope of the NEPA document. An evening meeting will be held at 6:00 p.m. on August 2, 2023, at the Hilton Garden Inn in Bakersfield, California, and will focus on receiving input from the public. A daytime meeting will be held at 9:00 a.m. on the same day, at the same location, and will focus on the concerns of resource agencies, non-governmental organizations (NGOs), and Indian tribes. We invite all interested agencies, Indian Tribes, non-governmental organizations, and individuals to attend one or both meetings. The times and locations of these meetings are as follows:

Evening Scoping Meeting

Date: Wednesday, August 2, 2023.

Time: 6:00 p.m. (PST).

Place: Hilton Garden Inn.

Address: 3625 Marriot Drive, Bakersfield, CA 93308.

Phone: (661) 716-1000.

Daytime Scoping Meeting

Date: Wednesday, August 2, 2023.

Time: 9:00 a.m. (PST).

Place: Hilton Garden Inn.

Address: 3625 Marriot Drive, Bakersfield, CA 93308.

Phone: (661) 716-1000.

SD1, which outlines the subject areas to be addressed in the environmental document, was mailed to the individuals and entities on the Commission's mailing list and SCE's distribution list. Copies of SD1 may be viewed on the web at http://www.ferc.gov, using the “eLibrary” link. Follow the directions for accessing information in paragraph n. Based on all oral and written comments, a Scoping Document 2 (SD2) may be issued. SD2 may include a revised process plan and schedule, as well as a list of issues, identified through the scoping process.

Environmental Site Review

The applicant and Commission staff will conduct an environmental site review of the project. All interested individuals, agencies, tribes, and NGOs are invited to attend. All participants are responsible for their own transportation to/from the project and during the site visit. Participants must wear sturdy, closed-toe shoes, or boots. Please RSVP via email to David.Moore@sce.com or notify David Moore at (626) 302-9494 on or before July 28, 2023 if you plan to attend the environmental site review. The time and location of the environmental site review is as follows:

Kern River No. 1 Project

Date: Tuesday, August 1, 2023.

Time: 9:00 a.m. (PST).

Place: Kern 1 Powerhouse.

Address: 21400 CA-178, Bakersfield, CA 93306.

Participants must meet at the Kern 1 Powerhouse parking lot to begin promptly at 9:00 a.m. with a tour of the powerhouse. After the powerhouse, we will travel to the Democrat Dam and the Democrat put-in/take-out recreation site.

Meeting Objectives

At the scoping meetings, Commission staff will: (1) initiate scoping of the issues; (2) review and discuss existing conditions; (3) review and discuss existing information and identify preliminary information and study needs; (4) review and discuss the process plan and schedule for pre-filing activity that incorporates the time frames provided for in Part 5 of the Commission's regulations and, to the extent possible, maximizes coordination of federal, state, and tribal permitting and certification processes; and (5) discuss the potential of any federal or state agency or Indian tribe to act as a cooperating agency for development of an environmental document.

Meeting participants should come prepared to discuss their issues and/or concerns. Please review the PAD in preparation for the scoping meetings. Directions on how to obtain a copy of the PAD and SD1 are included in item n of this document.

Meeting Procedures

Commission staff are moderating the scoping meetings. The meetings are recorded by an independent stenographer and become part of the formal record of the Commission proceeding on the project. Individuals, NGOs, Indian tribes, and agencies with environmental expertise and concerns are encouraged to attend the meeting and to assist the staff in defining and clarifying the issues to be addressed in the NEPA document.

Dated: June 29, 2023.
Debbie-Anne A. Reese,
Deputy Secretary.

[FR Doc. 2023-14262 Filed 7-5-23; 8:45 am]

BILLING CODE 6717-01-P